NATIONAL AERONAUTICS AND SPACE ADMINISTRATION

[Notice: 05-003]

Alternative Fuel Vehicle Acquisitions; Notice of Availability

AGENCY: National Aeronautics and Space Administration (NASA).

ACTION: Notice of availability of NASA's annual report on its alternative fuel vehicle (AFV) acquisitions for fiscal year 2004.

SUMMARY: Under the Energy Policy Act of 1992 (42 U.S.C. 13211-13219) as amended by the Energy Conservation Reauthorization Act of 1998 (Pub. L. 105-388), and Executive Order 13149 (April 2000), “Greening the Government Through Federal Fleet and Transportation Efficiency,” NASA's annual AFV reports are available on the following NASA Web site: www.hq.nasa.gov/office/codej/codejlg/afv.htm.

ADDRESSES: Logistics Management Division, NASA Headquarters, 300 E Street SW., Washington, DC 20546-0001.

FOR FURTHER INFORMATION CONTACT: William Gookin, (202) 358-2306, or william.e.gookin@nasa.gov.

Jeffrey E. Sutton,
Assistant Administrator for Infrastructure, Management and Headquarters Operations.

[FR Doc. 05-848 Filed 1-13-05; 8:45 am]

BILLING CODE 7510-13-P